DEPARTMENT OF THE TREASURY

Bureau of Alcohol, Tobacco and Firearms

[Docket No. 919; ATF O 1130.17]

Delegation Order—Delegation of the Director's Authorities in 27 CFR Part 30, Gauging Manual

To: All Bureau Supervisors

1. PURPOSE. This order delegates certain authorities of the Director to subordinate ATF officers.

2. CANCELLATION. ATF O 1100.126B, Delegation Order—Delegation of Authorities of the Director in 27 CFR part 30, Gauging Manual, dated 11/03/87, is hereby canceled.

3. BACKGROUND. Under current regulations, the Director has authority to take final action on matters relating to the gauging manual. We have determined that certain of these should, in the interest of efficiency, be delegated to a lower organizational level.

4. DELEGATIONS. Under the authority vested in the Director, Bureau of Alcohol, Tobacco and Firearms, by Treasury Department Order No. 120-1 (formerly 221), dated June 6, 1972, and by 26 CFR 301.7701-9, this ATF order delegates certain authorities to take final action prescribed in 27 CFR part 30 to subordinate officers. The attached table identifies the regulatory sections, documents and authorized ATF officers. The authorities in the table may not be redelegated. An ATF organization chart showing the directorates involved in this delegation order has been attached.

5. QUESTIONS. Any questions concerning this order should be directed to the Regulations Division at 202-927-8210.

Bradley A. Buckles,
Director.

Table of Authorities, Documents To Be Filed, and Authorized Officials
Regulatory section | Officer(s) authorized to act or receive document.
§ 30.11—Bulk conveyance | Chief, National Revenue Center (NRC), to approve containers for bulk quantities upon recommendation of Area Supervisor or Chief, Puerto Rico Operations.
§ 30.21(c) | Inspector, Specialist, or Special Agent, to use instruments and to verify accuracy of hydrometers and thermometers used by proprietor.
§ 30.21(c) | Chief, Alcohol and Tobacco Laboratory, to approve other methods for determination of specific gravity and for gauging.
§ 30.24(a) | Inspector, Specialist or Special Agent
§ 30.24(b) | Inspector, Specialist or Special Agent
§ 30.31(b) | Chief, Alcohol and Tobacco Laboratory
§ 30.36 | Chief, Regulations Division
§ 30.43 | Chief, Regulations Division
§ 30.51 | Chief, Regulations Division

BILLING CODE 4810-31-P

[FR Doc. 01-14469 Filed 6-7-01; 8:45 am]

BILLING CODE 4810-31-C